DEPARTMENT OF HOMELAND SECURITY

Coast Guard

33 CFR Part 117

[USCG-2013-0880]

Drawbridge Operation Regulations; Hackensack River, Jersey City, NJ

AGENCY: Coast Guard, DHS.

ACTION: Notice of temporary deviation from regulations.

SUMMARY: The Commander, First Coast Guard District, has issued a temporary deviation from the regulations governing the operation of the Path (Railroad) Bridge across the Hackensack River, mile 3.0, at Jersey City, New Jersey. Under this temporary deviation, the bridge may remain in the closed position for 26 consecutive weekends to facilitate bridge repairs.

DATES: This deviation is effective on weekends from 12:01 a.m. Saturday November 23, 2013 through 12:01 Monday May 19, 2014.

ADDRESSES: The docket for this deviation, [USCG-2013-0880] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Joe Arca, Project Officer, First Coast Guard District, joe.m.arca@uscg.mil, or (212) 668-7165. If you have questions on viewing the docket, call Barbara Hairston, Program Manager, Docket Operations, telephone 202-366-9826.

SUPPLEMENTARY INFORMATION: The Path railroad bridge has a vertical clearance of 40 feet at mean high water, and 45 feet at mean low water in the closed position. The existing drawbridge operating regulations are found at 33 CFR 117.5.

The bridge owner, Port Authority Trans-Hudson Corporation (PATH), requested a bridge closure for 26 consecutive weekends to facilitate replacement of rails and ties at the lift span.

Under this temporary deviation, the Path Railroad Bridge may remain in the closed position for 26 consecutive weekends from 12:01 a.m. Saturdays to 12:01 a.m. Mondays effective November 23, 2013 through May 19, 2014.

Vessels that can pass under the closed draw may do so at all times.

The Hackensack River in the vicinity of the Path Railroad Bridge is transited primarily by commercial vessels. Most vessels that habitually transit under the bridge do not require bridge openings.

In accordance with 33 CFR 117.35(e), the bridge must return to its regular operating schedule immediately at the end of the designated repair period. This deviation from the operating regulations is authorized under 33 CFR 117.35.

Dated: October 11, 2013.
Gary Kassof,
Bridge Program Manager, First Coast Guard District.

[FR Doc. 2013-26523 Filed 11-4-13; 8:45 am]

BILLING CODE 9110-04-P